DEPARTMENT OF THE INTERIOR

National Park Service

[NPS-WASO-NAGPRA-NPS0040258; PPWOCRADN0-PCU00RP14.R50000]

Notice of Intended Disposition: U.S. Army Corps of Engineers, Omaha District, Omaha, NE

AGENCY: National Park Service, Interior.

ACTION: Notice.

SUMMARY: In accordance with the Native American Graves Protection and Repatriation Act (NAGPRA), the U.S. Army Corps of Engineers, Omaha District intends to carry out the disposition of human remains and associated funerary objects removed from Federal or Tribal lands to the lineal descendants, Indian Tribe, or Native Hawaiian organization with priority for disposition in this notice.

DATES: Disposition of the human remains and associated funerary objects in this notice may occur on or after July 7, 2025. If no claim for disposition is received by June 4, 2026, the human remains and associated funerary objects in this notice will become unclaimed human remains and associated funerary objects.

ADDRESSES: Send written claims for disposition of the human remains and associated funerary objects in this notice to Ms. Livia Taylor, U.S. Army Corps of Engineers, Omaha District, ATTN: CENWO-PMA-D, 1616 Capitol Avenue, Omaha, NE 68102, email livia.a.taylor@usace.army.mil.

SUPPLEMENTARY INFORMATION: This notice is published as part of the National Park Service's administrative responsibilities under NAGPRA. The determinations in this notice are the sole responsibility of the U.S. Army Corps of Engineers, Omaha District, and additional information on the human remains and associated funerary objects in this notice, including the results of consultation, can be found in the related records. The National Park Service is not responsible for the identifications in this notice.

Abstract of Information Available

Based on the information available, human remains representing, at least, one individual, along with 974 associated funerary objects were removed from a site in Campbell County, South Dakota during 1991 and 1992. Based upon a preponderance of the evidence, including Tribal oral history, archeological and geographical information, the Ancestors described in this Notice are consistent with cultural affiliation of the Three Affiliated Tribes of the Fort Berthold Reservation, North Dakota.

Determinations

The U.S. Army Corps of Engineers, Omaha District has determined that:

• The human remains described in this notice represent the physical remains of one individual of Native American ancestry.

• The 974 objects described in this notice are reasonably believed to have been placed intentionally with or near individual human remains at the time of death or later as part of the death rite or ceremony.

• The Three Affiliated Tribes of the Fort Berthold Reservation, North Dakota has priority for disposition of the human remains and associated funerary objects described in this notice.

Claims for Disposition

Written claims for disposition of the human remains and associated funerary objects in this notice must be sent to the appropriate official identified in this notice under ADDRESSES. If no claim for disposition is received by June 4, 2026, the human remains and associated funerary objects in this notice will become unclaimed human remains and associated funerary objects. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains and associated funerary objects in this notice may occur on or after July 7, 2025. If competing claims for disposition are received, the U.S. Army Corps of Engineers, Omaha District must determine the most appropriate claimant prior to disposition. Requests for joint disposition of the human remains and associated funerary objects are considered a single request and not competing requests. The U.S. Army Corps of Engineers, Omaha District is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: May 21, 2025.
Melanie O'Brien,
Manager, National NAGPRA Program.

[FR Doc. 2025-10131 Filed 6-3-25; 8:45 am]

BILLING CODE 4312-52-P